DEPARTMENT OF THE INTERIOR

[WYW153578]

Notice of Proposed Reinstatement of Terminated Oil and Gas Lease

AGENCY: Bureau of Land Management, Interior.

ACTION: Notice.

SUMMARY: Under the provisions of Section 371(a) of the Energy Policy Act of 2005, the lessee, Charles A. Einarsen, timely filed a petition for reinstatement of competitive oil and gas lease WYW153578 in Natrona County, Wyoming. The lessee paid the required rental accruing from the date of termination, September 1, 2002, and submitted a signed agreement, specifying future rental and royalty rates for this lease would be at $10.00 per acre or fraction of an acre and 16⅔ percent respectively. In accordance with 43 CFR 3103.4-1 and 43 CFR 3108.2-3(f) the lessee petitioned to reduce the rental and royalty rates for the subject lease to the rates specified in Sections 1 and 2 of the original lease agreement and submitted justification and rationalization for the request. After thoroughly reviewing the lessee's petition and taking into consideration the information submitted, we have granted the request to reduce the rental rates to those in Section 1 of the original lease agreement but have denied the request for a reduced royalty rate. The purpose of granting a reduced royalty rate is to extend the productive life of an existing well. Normally it cannot be determined whether a lease can be successfully operated at the higher royalty rate required for reinstated leases until the lease has been fully developed. Because the productivity of the leasehold has not been fully determined, the request for a reduced royalty rate is premature.

No leases were issued that affect these lands. The lessee had paid the required $500 administrative fee for lease reinstatement and $166 cost for publishing this Notice.

The lessee has met all the requirements for reinstatement of the lease per Sec. 31(e) of the Mineral Leasing Act of 1920 (30 U.S.C. 188(e)). We are proposing to reinstate the lease, effective the date of termination subject to:

• The original terms and conditions of the lease;

• The rental rates specified in Section 1 of the original lease agreement; and

• The increased royalty of 16⅔ percent or 4 percentages above the existing competitive royalty rate.

FOR FURTHER INFORMATION CONTACT: Bureau of Land Management, Pamela J. Lewis, Chief, Branch of Fluid Minerals Adjudication, at (307) 775-6176.

Pamela J. Lewis,
Chief, Branch of Fluid Minerals Adjudication.

[FR Doc. E6-1638 Filed 2-6-06; 8:45 am]

BILLING CODE 4310-22-P